FEDERAL MARITIME COMMISSION

Ocean Transportation Intermediary License Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 003069NF.

Name: A. H. Carter & Associates, Inc.

Address: 25706 74th Avenue S., Kent, WA 98032.

Date Revoked: March 26, 2011.

Reason: Failed to maintain valid bonds.

License Number: 4422F.

Name: C & C Group, Inc.

Address: 1928 NE 82nd Avenue, Miami, FL 33126.

Date Revoked: March 24, 2011.

Reason: Failed to maintain a valid bond.

License Number: 15083F.

Name: Gandhi International Shipping, Inc.

Address: 2358 W. Devon Avenue, Chicago, IL 60659.

Date Revoked: March 31, 2011.

Reason: Failed to maintain a valid bond.

License Number: 16470F.

Name: South Beach Maritime Company.

Address: 8626 NW 55th Place, Coral Springs, FL 33067.

Date Revoked: March 9, 2011.

Reason: Failed to maintain a valid bond.

License Number: 16604N.

Name: Pisces Shipping, Inc. dba Pisces Container Lines.

Address: 175 North Highland Avenue, Elmhurst, IL 60126.

Date Revoked: March 3, 2011.

Reason: Failed to maintain a valid bond.

License Number: 16909N.

Name: Trans Port Agencies, Inc.

Address: 1790 Yardley-Langhorne Road, Suite 202, Yardley, PA 19067.

Date Revoked: March 26, 2011.

Reason: Failed to maintain a valid bond.

License Number: 018088N.

Name: ILS-International Logistics Solutions, Inc.

Address: 1345 East Chandler Road, Building 1, Suite 205, Phoenix, AZ 85048.

Date Revoked: March 19, 2011.

Reason: Failed to maintain a valid bond.

License Number: 018929N.

Name: Love Box, LLC.

Address: 32756 Hanford Court, Union City, CA 94587.

Date Revoked: March 11, 2011.

Reason: Failed to maintain a valid bond.

License Number: 019369N.

Name: Independent Transport Line, LLC dba ITL.

Address: 10050 Northwest Freeway, Suite 175, Houston, TX 77092.

Date Revoked: March 9, 2011.

Reason: Failed to maintain a valid bond.

License Number: 020724NF.

Name: Solusco Worldwide, Inc. dba SGL Worldwide Inc.

Address: 750 Arthur Avenue, Elk Grove Village, IL 60007.

Date Revoked: March 22, 2011.

Reason: Failed to maintain valid bonds.

License Number: 021929N.

Name: American Royal International, Inc.

Address: 1021 Washington Street, San Carlos, CA 94070.

Date Revoked: February 9, 2011.

Reason: Failed to maintain a valid bond.

License Number: 022322N.

Name: O.T.S. Logistics, Inc.

Address: 18726 South Western Avenue, Suite 212, Gardena, CA 90248.

Date Revoked: March 10, 2011.

Reason: Failed to maintain a valid bond.

License Number: 022453F.

Name: Joker Logistics USA, Inc.

Address: 11301 Metro Airport Center Drive, Suite 170, Romulus, MI 48174.

Date Revoked: March 12, 2011.

Reason: Failed to maintain a valid bond.

Sandra L. Kusumoto,
Director, Bureau of Certification and Licensing.

[FR Doc. 2011-9616 Filed 4-19-11; 8:45 am]

BILLING CODE 6730-01-P